DEPARTMENT OF LABOR

Employment and Training Administration

[TA-W-40,422]

Crown Marking Equipment Co. Warrington, PA; Notice of Termination of Investigation

Pursuant to Section 221 of the Trade Act of 1974, an investigation was initiated on December 10, 2001, in response to a petition filed by a company official on behalf of workers at Crown Marking Equipment Company, Warrington, Pennsylvania.

The company official submitting the petition has requested that the petition be withdrawn. Consequently, further investigation in this case would serve no purpose, and the investigation has been terminated.

Signed in Washington, DC, this 16th day of January, 2002.
Linda G. Poole,
Certifying Officer, Division of Trade Adjustment Assistance.

[FR Doc. 02-2326 Filed 1-30-02; 8:45 am]

BILLING CODE 4510-30-M